NUCLEAR REGULATORY COMMISSION

[NRC-2025-0087]

NUREG: Report to Congress on Abnormal Occurrences: Fiscal Year 2024; Dissemination of Information

AGENCY: Nuclear Regulatory Commission.

ACTION: Final report; issuance.

SUMMARY: The U.S. Nuclear Regulatory Commission (NRC) is issuing NUREG-0090, Volume 47, “Report to Congress on Abnormal Occurrences: Fiscal Year 2024.” The report describes those events that the NRC or an Agreement State identified as abnormal occurrences (AOs) during fiscal year (FY) 2024, based on the criteria defined by the Commission. The report describes seven events at Agreement State-licensed facilities and one event at an NRC-licensed facility.

DATES: NUREG-0090, Volume 47, is available on June 10, 2025.

ADDRESSES: Please refer to Docket ID NRC-2025-0087 when contacting the NRC about the availability of information regarding this document. You may obtain publicly available information related to this document using any of the following methods:

• Federal Rulemaking Website: Go to https://www.regulations.gov and search for Docket ID NRC-2025-0087. Address questions about Docket IDs in Regulations.gov to Bridget Curran; telephone: 301-415-1003; email: Bridget.Curran@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The FY 2024 AO report, NUREG-0090, Volume 47, “Report to Congress on Abnormal Occurrences: Fiscal Year 2024,” is available in ADAMS under Accession No. ML25150A343.

FOR FURTHER INFORMATION CONTACT: Rigel Flora, Office of Nuclear Regulatory Research, U.S. Nuclear Regulatory Commission, Washington, DC 20555-0001; telephone: 301-415-3890; email: Rigel.Flora@nrc.gov.

SUPPLEMENTARY INFORMATION: Section 208 of the Energy Reorganization Act of 1974, as amended (Pub. L. 93-438), defines an “abnormal occurrence” as an unscheduled incident or event that the NRC determines to be significant from the standpoint of public health or safety. The FY 2024 AO report, NUREG-0090, Volume 47, “Report to Congress on Abnormal Occurrences: Fiscal Year 2024,” describes those events that the NRC identified as AOs during FY 2024.

This report describes seven events involving Agreement State licensees and one event involving an NRC licensee. Seven of the AOs occurred at medical facilities, and one event involved security processes at an industrial licensee.

The NRC identified no events at NRC-licensed facilities during FY 2024 that met the guidelines for inclusion in Appendix B, “Other Events of Interest.”

Two events met the guidelines for inclusion in Appendix C, “Updates of Previously Reported Abnormal Occurrences.”

Agreement States are the 39 U.S. States that currently have entered into formal agreements with the NRC pursuant to Section 274 of the Atomic Energy Act of 1954, as amended (AEA), to regulate certain quantities of AEA-licensed material at facilities located within their borders.

The Federal Reports Elimination and Sunset Act of 1995 (Pub. L. 104-68) requires that AOs be reported to Congress annually. The full report, NUREG-0090, Volume 47, “Report to Congress on Abnormal Occurrences: Fiscal Year 2024,” is also available electronically at the NRC's public website at https://www.nrc.gov/reading-rm/doc-collections/nuregs/staff.

Dated: June 5, 2025.
For the Nuclear Regulatory Commission.
Carrie Safford,
Secretary of the Commission.

[FR Doc. 2025-10506 Filed 6-9-25; 8:45 am]

BILLING CODE 7590-01-P